DEPARTMENT OF ENERGY

Federal Energy Regulatory Commission

Combined Notice of Filings #2

Take notice that the Commission received the following exempt wholesale generator filings:

Docket Numbers: EG12-22-000.

Applicants: Perrin Ranch Wind, LLC.

Description: Notice of Self-Certification of Exempt Wholesale Generator Status of Perrin Ranch Wind, LLC.

Filed Date: 12/22/11.

Accession Number: 20111222-5130.

Comments Due: 5 p.m. ET 1/12/12.

Take notice that the Commission received the following electric rate filings:

Docket Numbers: ER10-2877-001.

Applicants: Cobb Electric Membership Corp.

Description: Cobb Electric Membership Corp. Updated Market Power Analysis.

Filed Date: 12/20/11.

Accession Number: 20111220-5150.

Comments Due: 5 p.m. ET 2/21/12.

Docket Numbers: ER10-3254-001.

Applicants: Cooperative Energy Incorporated (an Electric Membership Corp).

Description: Cooperative Energy Inc Updated Market Power Analysis.

Filed Date: 12/20/11.

Accession Number: 20111220-5142.

Comments Due: 5 p.m. ET 2/21/12.

Docket Numbers: ER11-4336-003.

Applicants: ISO New England Inc.

Description: ISO New England Inc. submits tariff filing per 35.17(b): Effective Date Change for “Fully Integrated” DR Rules to be effective 6/1/2016.

Filed Date: 12/22/11.

Accession Number: 20111222-5135.

Comments Due: 5 p.m. ET 12/29/11.

Docket Numbers: ER12-10-001.

Applicants: Energy International Power Marketing.

Description: Energy International Power Marketing submits tariff filing per 35: EIP Compliance Filing to be effective 10/3/2011.

Filed Date: 12/22/11.

Accession Number: 20111222-5121.

Comments Due: 5 p.m. ET 1/12/12.

Docket Numbers: ER12-645-001.

Applicants: California Ridge Wind Energy LLC.

Description: Supplement to December 21, 2011 Market-Based Rate Application to be effective 2/20/2012.

Filed Date: 12/22/11.

Accession Number: 20111222-5032.

Comments Due: 5 p.m. ET 1/12/12.

Docket Numbers: ER12-662-000.

Applicants: Southern California Edison Company.

Description: SGIA WDAT SERV AG SCE-SEPV 8 LLC SEPV 8 Project to be effective 12/23/2011.

Filed Date: 12/22/11.

Accession Number: 20111222-5001.

Comments Due: 5 p.m. ET 1/12/12.

Docket Numbers: ER12-663-000.

Applicants: Southwest Power Pool, Inc.

Description: Southwest Power Pool, Inc. Request for Waiver of Tariff Provision and Expedited Treatment.

Filed Date: 12/22/11.

Accession Number: 20111222-5069.

Comments Due: 5 p.m. ET 1/12/12.

Docket Numbers: ER12-664-000.

Applicants: PacifiCorp.

Description: UMPA ARTSOA Rev 2 to be effective 2/21/2012.

Filed Date: 12/22/11.

Accession Number: 20111222-5106.

Comments Due: 5 p.m. ET 1/12/12.

Docket Numbers: ER12-665-000.

Applicants: ITC Midwest LLC.

Description: Filing of Agreements with MidAmerican Energy Company to be effective 2/21/2012.

Filed Date: 12/22/11.

Accession Number: 20111222-5107.

Comments Due: 5 p.m. ET 1/12/12.

Docket Numbers: ER12-666-000.

Applicants: New York Independent System Operator, Inc.

Description: NYISO tariff revisions regarding solar-fueled generators to be effective 2/20/2012.

Filed Date: 12/22/11.

Accession Number: 20111222-5115.

Comments Due: 5 p.m. ET 1/12/12.

Docket Numbers: ER12-667-000.

Applicants: ITC Midwest LLC.

Description: ITC Midwest LLC submits tariff filing per 35.13(a)(2)(iii: ITC Midwest—Northern States Power Company 205 Filing to be effective 2/21/2012.

Filed Date: 12/22/11.

Accession Number: 20111222-5153.

Comments Due: 5 p.m. ET 1/12/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 22, 2011.
Nathaniel J. Davis, Sr.,
Deputy Secretary.

[FR Doc. 2011-33677 Filed 12-30-11; 8:45 am]

BILLING CODE 6717-01-P